DEPARTMENT OF HEALTH AND HUMAN SERVICES

Centers for Disease Control and Prevention (CDC)

Office for State, Tribal, Local and Territorial Support (OSTLTS)

In accordance with Presidential Executive Order No. 13175, November 6, 2000, and the Presidential Memorandum of November 5, 2009, and September 23, 2004, Consultation and Coordination with Indian Tribal Governments, CDC/Agency for Toxic Substances and Disease Registry (ATSDR), announces the following meeting and Tribal Consultation Session:

Name: Tribal Advisory Committee (TAC) Meeting and 10th Biannual Tribal Consultation Session

Times and Dates: 8:00 a.m.-5:00 p.m., February 18, 2014 (TAC Meeting); 8:00 a.m.-5:00 p.m., February 19, 2014 (10th Biannual Tribal Consultation Session).

Place: The TAC Meeting and Tribal Consultation Session will be held at CDC Headquarters, 1600 Clifton Road NE., Global Communications Center, Auditorium B3, Atlanta, Georgia 30333.

Status: The meetings are being hosted by CDC/ATSDR and are open to the public.

Purpose: In 2011-2012, CDC began revising its existing Tribal Consultation Policy (issued in 2005) with the primary purpose of providing guidance across the agency to work effectively with American Indian/Alaska Native (AI/AN) tribes, communities, and organizations to enhance AI/AN access to CDC resources and programs. Within the CDC Consultation Policy, it is stated that CDC will conduct government-to-government consultation with elected tribal officials or their authorized representatives before taking actions and/or making decisions that affect them. Consultation is an enhanced form of communication that emphasizes trust, respect, and shared responsibility. It is an open and free exchange of information and opinion among parties that leads to mutual understanding and comprehension. CDC believes that consultation is integral to a deliberative process that results in effective collaboration and informed decision making with the ultimate goal of reaching consensus on issues. Although formal responsibility for the agency's overall government-to-government consultation activities rests within the CDC Office of the Director (OD), other CDC Center, Institute, and Office (CIO) leadership shall actively participate in TAC meetings and HHS-sponsored regional and national tribal consultation sessions as frequently as possible.

Matters To Be Discussed: The TAC and CDC leaders will discuss the following public health issue topics identified by tribal leaders: Native specimens, behavioral risk factors, and disease-specific topics; however, discussion is not limited to these topics.

During the 10th Biannual Tribal Consultation Session, tribes and CDC leaders will engage in a listening session with CDC's director and roundtable discussions with CDC senior leadership, and tribes will have an opportunity to present testimony on tribal health issues.

Tribal Leaders are encouraged to submit written testimony by 12:00 a.m., EST on January 24, 2014, to April R. Taylor, Public Health Analyst for the Tribal Support Unit, or CAPT Craig Wilkins, Acting Director for the Tribal Support Unit, CDC/OSTLTS, via mail to 4770 Buford Highway NE., MS E-70, Atlanta, Georgia 30341 or email to tribalsupport@cdc.gov. Depending on the time available, it may be necessary to limit the time of each presenter.

The agenda is subject to change as priorities dictate.

Information about the TAC, CDC's Tribal Consultation Policy, and previous meetings may be referenced on the following web link: http://www.cdc.gov/tribal.

Contact Person For More Information: April R. Taylor, Public Health Analyst, CDC/OSTLTS, via mail to 4770 Buford Highway NE., MS E-70, Atlanta, Georgia 30341 or email to ARTaylor@cdc.gov.

The Director, Management Analysis and Services Office has been delegated the authority to sign Federal Register notices pertaining to announcements of meetings and other committee management activities, for both the Centers for Disease Control and Prevention, and the Agency for Toxic Substances and Disease Registry.

Elaine L. Baker,
Director, Management Analysis and Services Office, Centers for Disease Control and Prevention.

[FR Doc. 2013-29746 Filed 12-12-13; 8:45 am]

BILLING CODE 4163-18-P